DEPARTMENT OF ENERGY

Federal Energy Regulatory Commission

[Project No. 14550-001]

New England Hydropower Company, LLC; Notice of Application Tendered for Filing With the Commission and Soliciting Additional Study Requests

Take notice that the following hydroelectric application has been filed with the Commission and is available for public inspection.

a. Type of Application: Exemption from Licensing.

b. Project No.: 14550-001.

c. Date filed: June 26, 2015.

d. Applicant: New England Hydropower Company, LLC.

e. Name of Project: Hanover Pond Dam Hydroelectric Project.

f. Location: On the Quinnipiac River, near the city of Meriden, in New Haven County, Connecticut. No federal lands would be occupied by project works or located within the project boundary.

g. Filed Pursuant to: Public Utility Regulatory Policies Act of 1978, 16 U.S.C. 2705, 2708.

h. Applicant Contact: Mr. Michael C. Kerr, New England Hydropower Company, LLC, P.O. Box 5524, Beverly Farms, Massachusetts 01915; (978) 360-2547, Michael@nehydropower.com.

i. FERC Contact: John Ramer, (202) 502-8969, john.ramer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 25, 2015.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14550-001.

m. The application is not ready for environmental analysis at this time.

n. The Hanover Pond Dam Hydroelectric Project would consist of: (1) An existing 25-foot-high, 150-foot-long earth embankment dam with four low-level sluice gates and a 250-foot-long concrete spillway; (2) the existing approximately 71.0-acre Hanover Pond with a storage capacity of 1,800 acre-feet at a normal operating elevation of about 87.3 feet NGVD29; (3) an existing 175-foot-long, 16.0-foot-wide fish ladder; (4) a new 8-foot-high, 12.5-foot-wide hydraulically-powered sluice gate equipped with a new 8-foot-high, 17-foot-wide trashrack with 9-inch bar spacing; (5) a new 78-foot-long, 12-foot-diameter buried precast concrete penstock; (6) a new 46.5-foot-long, 11.65-foot wide Archimedes screw generator unit, with an installed capacity of 192 kilowatts; (7) a new 12-foot-high, 18-foot-long, 16.0-foot-wide concrete powerhouse containing a new gearbox, generator, and electrical controls; (8) a new 15-foot-long, variable-width concrete tailrace; (9) a new 500-foot-long, 35-kilovolt above ground transmission line connecting the powerhouse to Connecticut Light and Power's distribution system; and (10) appurtenant facilities. The estimated annual generation of the proposed Hanover Pond Dam Project would be about 900 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the New Hampshire State Historic Preservation Officer (SHPO), as required by section 106 of the National Historic Preservation Act and the regulations of the Advisory Council on Historic Preservation, 36 CFR 800.4.

q. Procedural schedule: The application will be processed according to the following preliminary schedule. Revisions to the schedule will be made as appropriate (e.g., study requests and/or application deficiencies may lengthen the schedule).

Issue Notice of Acceptance/Ready for Environmental Analysis—September 2015

Issue EA/Order—February 2016

Dated: June 30, 2015.
Kimberly D. Bose,
Secretary.

[FR Doc. 2015-16685 Filed 7-7-15; 8:45 am]

BILLING CODE 6717-01-P